DEPARTMENT OF COMMERCE

National Oceanic and Atmospheric Administration

Notice of Public Hearings and Availability of the Draft Environmental Impact Statement and Draft Management Plan for the Proposed Designation of the Connecticut National Estuarine Research Reserve

AGENCY: Office for Coastal Management (OCM), National Ocean Service (NOS), National Oceanic and Atmospheric Administration (NOAA), U.S. Department of Commerce.

ACTION: Notice of availability; public hearings.

SUMMARY: Notice is hereby given that, pursuant to the Coastal Zone Management Act, as amended (CZMA), the National Oceanic and Atmospheric Administration (NOAA) Office for Coastal Management is announcing a 45-day public comment period and will hold public hearings for the purpose of receiving comments on the draft management plan (DMP) and draft environmental impact statement (DEIS) for the proposed designation of the Connecticut National Estuarine Research Reserve (CT NERR). The DMP addresses research, monitoring, education, and stewardship, as well as cultural resource needs for the proposed CT NERR, and the DEIS analyzes alternatives to the proposed action along with their potential environmental impacts.

DATES: NOAA is accepting written public comments on the adequacy of the DMP and DEIS for the proposed designation of the CT NERR through 5 p.m. (EST), October 18, 2021. In addition, NOAA will accept oral or written public comments on the adequacy of the DMP and DEIS for the proposed designation of the CT NERR during public hearings held from 2:30 to 4 p.m. and 7:30 to 9 p.m. (EST) on October 7, 2021, online via WebEx and by phone. For more information about the public hearings, please visit: https://portal.ct.gov/DEEP/Coastal-Resources/NERR/NERR-Home-Page. All relevant comments received at the October 7, 2021, public hearings and during the 45-day public comment period ending at 5 p.m. (EST), October 18, 2021, will be considered in the preparation of the Final Management Plan and Final Environmental Impact Statement for the proposed designation of the CT NERR.

ADDRESSES: Written comments may be submitted by any one of the following methods:

• Electronic Submission: Submit all electronic public comments via the Federal eRulemaking Portal. Go to www.regulations.gov and enter NOAA-NOS-2020-0089 in the search box. Click on the “Comment” icon, complete the required fields, and enter or attach your comments. Written comments provided electronically must be submitted no later than 5 p.m. (EST) October 18, 2021.

• Mail: Submit written comments to Erica Seiden, Stewardship Division (N/OCM6), Office for Coastal Management, NOS, NOAA, 1305 East-West Highway, Silver Spring, Maryland 20910; ATTN: CT NERR. Written comments submitted by mail must be postmarked by October 18, 2021.

The October 7, 2021, public hearings will be conducted online via WebEx and by phone. Online participants should go to the following University of Connecticut website to get instructions for participating in and attending the public hearings: https://uconnvtc.webex.com/meet/ctnerr. Hearing documents will be available on the Connecticut Department of Energy and Environmental Protection's CT NERR website: https://portal.ct.gov/DEEP/Coastal-Resources/NERR/NERR-Home-Page, as well as on the Federal eRulemaking Portal: www.regulations.gov (enter NOAA-NOS-2020-0089 in the search box). You may also participate in the hearings by phone, by using the toll-free number +1 415-655-0002 and the attendee access code 120 996 1055.

Instructions: All relevant comments received are part of the public record and will be posted for public viewing on www.regulations.gov with no changes. All personally identifiable information (e.g., name, address, etc.), confidential business information, or otherwise sensitive information submitted voluntarily by the commenter will be publicly accessible and maintained by NOAA as part of the public record. NOAA will accept anonymous comments. To submit an anonymous comment, on the eRulemaking portal, enter “N/A” in the required fields if you wish to remain anonymous. If you would like to provide an anonymous comment during the public hearings, type your comment into the question box and (1) direct your message only to the moderator by selecting that person's name; and (2) state at the top of your comment that you would like to remain anonymous. Multimedia submissions (e.g., audio, video, etc.) must be accompanied by a written comment. The written comment is considered the official comment and should include discussion of all points you wish to make. NOAA will generally not consider comments, or comment contents, located outside of the primary submission sites or addresses (i.e., those posted on the web, cloud, or other file-sharing system). Please note, the public hearings will not be audio or video recorded.

Closed captioning will be provided for those who attend the public hearings online via WebEx: https://uconnvtc.webex.com/meet/ctnerr.

FOR FURTHER INFORMATION CONTACT: Erica Seiden, Stewardship Division (N/OCM6), Office for Coastal Management, NOS, NOAA, 1305 East-West Highway, Silver Spring, Maryland 20910; ATTN: CT NERR; phone: (240) 533-0781; or email: erica.seiden@noaa.gov.

SUPPLEMENTARY INFORMATION: The National Estuarine Research Reserve System (NERRS) is a federal-state partnership administered by NOAA. The NERRS protects more than 1.3 million acres of estuarine habitat for long-term research, monitoring, education, and stewardship throughout the coastal United States. Established by the CZMA, as amended (16 U.S.C. 1451 et seq.), each reserve is managed by a lead state agency or university, with input from local partners. NOAA provides funding and national programmatic guidance to the NERRS.

NOAA received the State of Connecticut's nomination of the proposed Connecticut NERR site on January 3, 2019. NOAA evaluated the nomination package and found that the proposed site met the reserve system requirements for designation. (See 16 U.S.C. 1461(b).) Accordingly, NOAA informed the State of Connecticut on September 27, 2019, that it was accepting the nomination and that the next step would be to prepare a DEIS and DMP. (See 15 CFR 921.13.)

The National Environmental Policy Act's (42 U.S.C. 4321 et seq.) implementing regulations (40 CFR parts 1500-1508) require agencies to provide public notice of the availability of environmental documents, including environmental impact statements (40 CFR 1506.6). Similarly, the CZMA's implementing regulations for the NERRS require NOAA to provide notice in the Federal Register of the availability of the DEIS and the associated public hearing(s) (15 CFR 921.13). This notice is part of NOAA's action to comply with these requirements.

The CT NERR DEIS considers the human and environmental consequences of designating the nominated site, plus four alternative sites: (1) The Connecticut River site; (2) the Lower Connecticut River site; (3) the revised nominated site; and (4) the no action alternative. The DMP sets a course for operating the proposed CT NERR should it be designated, and includes plans for administration, research, education, facilities, and management of the proposed site. (See 15 CFR 921.13.)

For more detailed information on the site selection process and the proposed site, see the Connecticut Department of Energy and Environmental Protection's Connecticut National Estuarine Research Reserve website: https://portal.ct.gov/DEEP/Coastal-Resources/NERR/NERR-Home-Page.

Keelin Kuipers,
Deputy Director, Office for Coastal Management, National Ocean Service, National Oceanic and Atmospheric Administration.

[FR Doc. 2021-18874 Filed 9-2-21; 8:45 am]

BILLING CODE 3510-JE-P